DEPARTMENT OF TRANSPORTATION

[Docket No. DOT-OST-2010-0212]

Agency Request for Approval of a Previously Approved Information Collection(s): Uniform Administrative Requirements for Grants and Cooperative Agreements to State and Local Governments and for Grants and Cooperative Agreements With Institutions of Higher Education, Hospitals, and Other Nonprofit Organizations

AGENCY: Office of the Secretary.

ACTION: Notice and request for comments.

SUMMARY: The Department of Transportation (DOT) invites public comments about our intention to request Office of Management and Budget (OMB) approval to renew a previously approved information collection. This information collection involves the use of various forms necessary because of management and oversight responsibilities of the agency imposed by OMB Circular 2 CFR 215 (A-110) (Uniform Administrative Requirements for Grants and Agreements with Institutions of Higher Education, Hospitals, and Other Non-Profit Organizations) and OMB Circular A-102 (Uniform Administrative Requirements for Grants and Cooperative Agreements to State and Local Governments). These forms include Application for Federal Assistance (SF-424), Federal Financial Report (SF-425), Request for Advance or Reimbursement (SF-270), and Outlay Report and Request for Reimbursement for Construction Programs (SF-271).

The Department has terminated Financial Status Report (SF-269 and SF-269A) and Federal Cash Transactions Report (SF-272 and SF-272A). The information contained in these forms is now consolidated into SF-425, which was approved by OMB for Federal-wide use on October 1, 2008 and recently revised on June 28, 2010. We are required to publish this notice in the Federal Register in accordance with the Paperwork Reduction Act of 1995, Public Law 104-13.

DATES: Written comments must be submitted November 2, 2010.

ADDRESSES: You may submit comments identified by Docket No. DOT-OST-2010-0212 through one of the following methods:

• Federal eRulemaking Portal: http://www.regulations.gov. Follow the online instructions for submitting comments.

• Fax: 1-202-493-2251.

• Mail or Hand Delivery: Docket Management Facility, U.S. Department of Transportation, 1200 New Jersey Avenue, SE., West Building, Room W12-140, Washington, DC 20590, between 9 a.m. and 5 p.m., Monday through Friday, except on Federal holidays.

FOR FURTHER INFORMATION CONTACT: Ellen Shields, Associate Director of the Financial Assistance Management Division, M-65, Office of the Senior Procurement Executive, Office of the Secretary, U.S. Department of Transportation, 1200 New Jersey Avenue, SE., Washington, DC 20590, (202) 366-4268. Refer to OMB Control Number 2105-0520.

SUPPLEMENTARY INFORMATION: OMB Control Number: 2105-0520.

Title: Uniform Administrative Requirements For Grants and Cooperative Agreements to State and Local Governments and For Grants and Cooperative Agreements with Institutions of Higher Education, Hospitals, and Other Nonprofit Organizations.

Form Numbers: SF-424, SF-425, SF-270, and SF-271.

Type of Request: Revision of a previously approved collection.

Abstract: This request combines two previously approved Information Collection Requests (ICR) (OMB Control numbers 2105-0531 and 2105-0520) into OMB Control Number 2105-0520. The Department is also requesting the renewal of information and collection requirements imposed by OMB Circular A-110 (Uniform Administrative Requirements for Grants and Agreements with Institutions of Higher Education, Hospitals, and Other Non-Profit Organizations, which the Department of Transportation codified at 49 CFR 18.40, 18.41 and 19), and OMB Circular 102 (Uniform Administrative Requirements for Grants and Cooperative Agreements to State and Local Governments). OMB provides management and oversight of the circulars. OMB also provides for a standard figure of seventy burden hours per grantee annually for completion of required forms. This collection covers only those DOT programs that utilize the standard OMB forms SF-424, SF-425, SF-270, and SF-271. The Department requests the Discontinuance of SF-269, SF-269A, SF-272, and SF-272A as well as OMB Control Number 2105-0531.

The Department's request for approval of the Federal Financial Report (FFR) (SF-425) is based on the Federal Register notice dated August 13, 2008, which states “As soon as possible after October 1, 2008, and no later than October 1, 2009, each agency must transition from the SF-269, SF-269A, SF-272, and SF-272A to the SF-425, by requiring recipients to use the FFR for all financial reports submitted after the date it makes the transition. In making the transition, an agency would incorporate the requirement to use the FFR into terms and conditions of new and ongoing grant and cooperative agreement awards, State plans, and/or program regulations that specify financial reporting requirements.” Comments on this notice were received and addressed in a Federal Register notice dated August 13, 2008 (72 FR, 69236). These comments and responses can be found on the OMB Forms Web site at http://www.whitehouse.gov/omb/grants/grants_standard_report_forms.html.

Respondents: Grantees.

Estimated Number of Respondents: 3,329.

Estimated Frequency: Quarterly.

Estimated Number of Responses: 10,814.

Estimated Total Annual Burden: 756,980 hours.

Public Comments Invited: You are asked to comment on any aspect of this information collection, including: (a) Whether the proposed collection of information is necessary for the Department's performance; (b) the accuracy of the estimated burden; (c) ways for the Department to enhance the quality, utility and clarity of the information collection; and (d) ways that the burden could be minimized without reducing the quality of the collected information. All responses to this notice will be summarized and included in the request for OMB approval. All comments will also become a matter of public record.

Authority: The Paperwork Reduction Act of 1995; 44 U.S.C. Chapter 35, as amended; and 49 CFR 1.48.

Issued in Washington, DC, on August 30, 2010.
Patricia Lawton,
DOT Paperwork Reduction Act Clearance Officer, Office of the Chief Information Officer.

[FR Doc. 2010-22048 Filed 9-2-10; 8:45 am]

BILLING CODE 4910-9X-P